DEPARTMENT OF HOMELAND SECURITY

Coast Guard

[USCG-2005-21093]

Notification of the Imposition of Conditions of Entry for Certain Vessels Arriving to the United States

AGENCY: Coast Guard, DHS.

ACTION: Notice of policy.

SUMMARY: The Coast Guard announces that effective anti-terrorism measures are not in place in ports of certain countries and will impose conditions of entry on vessels arriving from those countries.

DATES: The policy announced in this notice is effective on May 23, 2005.

ADDRESSES: The Docket Management Facility maintains the public docket for this notice. This notice will be available for inspection or copying at room PL-401 on the Plaza level of the Nassif Building, 400 Seventh Street SW., Washington, DC, between 9 a.m. and 5 p.m., Monday through Friday, except Federal holidays. You may also find this docket, including this notice, on the Internet at http://dms.dot.gov.

FOR FURTHER INFORMATION CONTACT: If you have questions on this notice, call Lieutenant Galia Kaplan, Coast Guard, telephone 202-366-2591.

SUPPLEMTARY INFORMATION:

Background and Purpose

Section 70110 of the Maritime Transportation Security Act provides that the Secretary of Homeland Security may impose conditions of entry into the United States from ports that are not maintaining effective anti-terrorism measures. The Coast Guard has been delegated the authority by the Secretary to carry out the provisions of this section. The Coast Guard has determined that ports in the following countries are not maintaining effective anti-terrorism measures: Democratic Republic of the Congo, Guinea-Bissau, Liberia, Mauritania, and Nauru. Accordingly, effective 23 May 2005, the Coast Guard will impose the following conditions of entry on vessels that visited the countries listed above during their last five port calls. Vessels must:

• Implement measures per the ship's security plan equivalent to Security Level 2;

• Ensure that each access point to the ship is guarded and that the guards have total visibility of the exterior (both landside and waterside) of the vessel while the vessel is in ports in the above countries. Guards may be provided by the ship's crew, however additional crewmembers should be placed on the ship if necessary to ensure that limits on maximum hours of work are not exceeded and/or minimum hours of rest are met, or provided by outside security forces approved by the ship's master and Company Security Officer;

• Attempt to execute a Declaration of Security;

• Log all security actions in the ship's log;

• Report actions taken to the cognizant U.S. Coast Guard Captain of the Port prior to arrival into U.S. waters; and

• Ensure that each access point to the ship is guarded by armed, private security guards and that they have total visibility of the exterior (both landside and waterside) of the vessel while in U.S. ports. The number and position of the guards has to be acceptable to the Coast Guard Captain of the Port.

Dated: April 26, 2005.
L.L. Hereth,
Director of Port Security.

[FR Doc. 05-8726 Filed 4-29-05; 8:45 am]

BILLING CODE 4910-15-P